DEPARTMENT OF LABOR

Employment and Training Administration

[TA-W-56,207]

Beverage-Air Abbeville County Factory; Honea Path, SC; Notice of Termination of Investigation

Pursuant to section 221 of the Trade Act of 1974, as amended, an investigation was initiated on December 13, 2004 in response to a petition filed by a company official on behalf of workers at Beverage-Air, Abbeville County Factory, Honea Path, South Carolina.

The petitioner has requested that the petition be withdrawn. Consequently, the investigation has been terminated.

Signed at Washington, DC this 14th day of January, 2005.
Elliott S. Kushner,
Certifying Officer, Division of Trade Adjustment Assistance.

[FR Doc. E5-275 Filed 1-25-05; 8:45 am]

BILLING CODE 4510-30-P